DEPARTMENT OF TRANSPORTATION

Federal Highway Administration

Notice of Final Federal Agency Actions on Proposed Highway in Minnesota

AGENCY: Federal Highway Administration (FHWA), DOT.

ACTION: Notice of limitations on claims for Judicial Reviews by FHWA.

SUMMARY: This notice announces actions taken by FHWA and other Federal Agencies that are final in the meaning of 23 U.S.C. 139(l)(1). The actions relate to a proposed highway project corridor connecting Trunk Highway 169 and United States Highway 212 in the vicinity of Trunk Highway 41 in the Counties of Scott and Carver, State of Minnesota. The Federal decisions of a tiered environmental review process under the National Environmental Policy Act, 42 U.S.C. 4321-4351 (NEPA), and implementing regulations on tiering, 40 CFR 1502.20 and 40 CFR 1508.28, determined certain issues relating to the proposed action. Those Tier I decisions will be used by Federal agencies in subsequent proceedings, including decisions whether to grant licenses, permits, and approvals for highway project(s).

DATES: By this notice, FHWA is advising the public of the final agency actions subject to 23 U.S.C. 139(l)(1). A claim seeking judicial review of the Federal agency actions on the highway project will be barred unless the claim is filed on or before November 9, 2015. If the Federal law that authorizes judicial review of a claim provides a time period of less than 150 days for filing such a claim, then that shorter time period still applies.

FOR FURTHER INFORMATION CONTACT: For FHWA: Philip Forst, Environmental Specialist, FHWA, Minnesota Division, 380 Jackson Street, Suite 500, Saint Paul, MN 55101, phil.forst@dot.gov, Phone: (651) 291-6100. For the Minnesota Department of Transportation, Diane Langenbach, Project Manager, Minnesota Department of Transportation, Metro District, 1500 West County Road B2, Roseville, MN 55113, Phone: (651) 234-7721.

SUPPLEMENTARY INFORMATION: Notice is hereby given that FHWA has issued at Tier I Record of Decision (ROD) in connection with a proposed highway project in the State of Minnesota: Construction of a new Trunk Highway (TH) 41 Minnesota River crossing connecting Trunk Highway 169 and United States (US) Highway 212 in the vicinity of the existing Trunk Highway 41. A modified Alternative C-2 corridor was the selected alternative in the Tier I FEIS. The selected alternative is an approximately 3 mile long, 300-foot wide corridor to accommodate a new four-lane east-west regional freeway connection between US 169 and US 212 that will improve regional accessibility and alleviate traffic congestion. Approximately six corridor alternatives were evaluated in the Tier I process. The selected alternative is the only corridor build alternative to be carried forward into a future Tier II EIS.

The Tier I final Federal agency decisions, and the laws under which such actions were taken, are described in the Tier I Final Environmental Impact Statement (FEIS), approved on November 12, 2014, in the Record of Decision (ROD) issued on March 16, 2015, and in other documents in the project records. The FEIS, ROD, and other documents in the project file are available by contacting the Minnesota Division of the FHWA or the Minnesota Department of Transportation at the addresses provided above. The FEIS and ROD can be viewed on the project Web site at http://www.dot.state.mn.us/metro/projects/hwy41bridge/documents.html, or obtained by contacting the individuals listed above.

This notice applies to all Federal agency decisions that are final in the meaning of 23 U.S.C. 139(l)(1) as of the issuance date of this notice and all laws under which such actions were taken, including but not limited to:

1. General: National Environmental Policy Act (NEPA) [42 U.S.C. 4321-4351]; Federal-Aid Highway Act [23 U.S.C. 109 and 23 U.S.C. 128].

2. Land: Section 4(f) of the Department of Transportation Act of 1966 [49 U.S.C. 303; 23 U.S.C. 138].

3. Historic and Cultural Resources: Section 106 of the National Historic Preservation Act of 1966, as amended [16 U.S.C. 470f]; Archeological Resources Protection Act of 1977 [16 U.S.C. 470aa-470mm]; Archeological and Historic Preservation Act [16 U.S.C. 469-469c].

4. Social and Economic: Farmland Protection Policy Act (FPPA) [7 U.S.C. 4201-4209]

5. Wetlands and Water Resources: Clean Water Act (Section 404, Section 401, Section 319) [33 U.S.C. 1251-1387]; Land and Water Conservation Fund (LWCF) [16 U.S.C. 4601-4604]; Wetlands Mitigation [23 U.S.C. 119(g) and 133(b)(14)]; Wild and Scenic Rivers Act [16 U.S.C. 1271-1287].

6. Executive Orders: E.O. 11990 Protection of Wetlands; E.O. 11988 Floodplain Management; E.O. 12898, Federal Actions to Address Environmental Justice in Minority Populations and Low Income Populations; E.O. 11593 Protection and Enhancement of Cultural Resources.

(Catalog of Domestic Assistance Program Number 20.205, Highway Planning and Construction. The regulations implementing Executive Order 12372 regarding intergovernmental consultation on Federal programs and activities apply to this program.)

Authority: 23 U.S.C. 139(l)(1).

Issued on: May 26, 2015.
Arlene Kocher,
Division Administrator.

[FR Doc. 2015-14080 Filed 6-11-15; 8:45 am]

BILLING CODE 4910-22-P